DEPARTMENT OF ENERGY

Office of Energy Efficiency and Renewable Energy

Draft Environmental Impact Statement for the Abengoa Biorefinery Project Near Hugoton, Stevens County, KS (DOE/EIS-0407D)

AGENCY: Office of Energy Efficiency and Renewable Energy, DOE.

ACTION: Notice of Availability.

SUMMARY: The U.S. Department of Energy (DOE) announces the availability of the Draft Environmental Impact Statement for the Abengoa Biorefinery Project near Hugoton, Stevens County, KS (DOE/EIS-0407D) (referred to as the “Draft Abengoa Biorefinery EIS” or “Draft EIS”). This Draft EIS was prepared in accordance with the Council on Environmental Quality's National Environmental Policy Act (NEPA) Implementing Regulations (40 CFR parts 1500-1508) and DOE NEPA Implementing Regulations (10 CFR part 1021). The U.S. Department of Agriculture, Rural Development, (USDA-RD) is a cooperating agency in preparation of the Draft Abengoa Biorefinery EIS.

DOE's Proposed Action in the Draft Abengoa Biorefinery EIS is to provide federal funding to Abengoa Bioenergy Biomass of Kansas, LLC (ABBK) to support the final design, construction, and startup of a commercial-scale integrated biorefinery to be located near the city of Hugoton, Stevens County, Kansas (hereafter referred to as the Abengoa Biorefinery Project). The Abengoa Biorefinery Project would use lignocellulosic biomass as feedstock to produce ethanol and biopower (electricity) sufficient to meet the needs of the biorefinery and to sell to the regional power grid. In the Draft EIS, DOE also evaluates an Action Alternative, under which the biorefinery would not produce electricity for sale to the regional grid, and a No-Action Alternative, under which the biorefinery would not be constructed. The Draft Abengoa Biorefinery Project EIS evaluates the potential direct, indirect, and cumulative environmental impacts from the construction and operation of the Abengoa Biorefinery Project. DOE's preferred alternative is the Proposed Action.

DATES: The public is invited to comment on the Draft EIS, and all comments received no later than November 9, 2009 will be addressed in preparing the Final EIS. Comments received after the end of the public comment period will be considered to the extent practicable. A public hearing on the Draft EIS will be held at the Stevens County Courthouse, 200 East 6th St., Hugoton, Kansas 67951-2606, on October 21 2009, from 6 p.m. to 8 p.m. Written and oral comments will be accepted and given equal weight.

ADDRESSES: Copies of this Draft EIS are available for review at The Stevens County Library, 501 S. Monroe Street, Hugoton, KS 67951, 620-544-2301, and the U.S. Department of Energy, FOIA Reading Room, 1E-190, Forrestal Bldg., 1000 Independence Avenue, SW., Washington, DC 20585, 202-586-3142. The Draft EIS is also available on the Golden Field Office On-line FOIA Public Reading Room: http://www.eere.energy.gov/golden/Reading_Room.aspx, at: http://www.biorefineryprojecteis-abengoa.com and at: http://www.gc.energy.gov/NEPA.

How to Comment on the Draft EIS: Oral and written comments on the Draft EIS will be accepted at the public hearing, or written comments may be mailed to Ms. Kristin Kerwin at the U.S. Department of Energy, Golden Field Office, 1617 Cole Boulevard, Golden, Colorado 80401, or submitted via e-mail to: kristin.kerwin@go.doe.gov. Envelopes and the subject line of e-mails and faxes should be labeled “Draft Abengoa Biorefinery EIS Comments.” Comments or requests for information may also be submitted via the EIS Web site at http://www.biorefineryprojecteis-abengoa.com.

FOR FURTHER INFORMATION CONTACT: For information on the Draft Abengoa Biorefinery EIS, or information on how to comment, contact Ms. Kristin Kerwin by any of the means described above under ADDRESSES, or access the Abengoa Biorefinery Project EIS Web site at: http://www.biorefineryprojecteis-abengoa.com.

For further information on the DOE Office of Energy Efficiency and Renewable Energy Integrated Biorefinery Program, contact Mr. John Ferrell, Biomass Program Manager (Acting), U.S. Department of Energy, 1000 Independence Avenue, SW., EE-2E, 5H-021, Washington, DC 20585, telephone: 202-586-6745, facsimile: 202-586-1640, e-mail: eere_biomass@ee.doe.gov.

For further information on the U.S. Department of Agriculture Rural Business-Cooperative Service Biorefinery Assistance Program contact: Energy Branch, Attention: Biorefinery Assistance Program, 1400 Independence Avenue, SW., Mail Stop 3225, Washington, DC 20250-3225; telephone: 202-720-1400.

For general information regarding the DOE National Environmental Policy Act (NEPA) process contact: Ms. Carol M. Borgstrom, Director, Office of NEPA Policy and Compliance, U.S. Department of Energy, 1000 Independence Avenue, SW., GC-20, Washington, DC 20585; e-mail AskNEPA@hq.doe.gov; telephone 202-586-4600; or leave a message at 1-800-472-2756.

SUPPLEMENTARY INFORMATION: Background: In September 2007, pursuant to the Energy Policy Act of 2005 (EPAct 2005) Section 932, DOE granted an initial award of approximately $15 million to ABBK to advance the conceptual design, initiate the permitting process, and support an environmental review under NEPA for a proposed biomass-to-ethanol and energy facility that would be located adjacent to and west of the city of Hugoton, Stevens County, Kansas. DOE requires completion of the design, permitting, and environmental review obligations prior to deciding whether to co-fund the final design, construction and start-up phases of the project.

On August 25, 2008, DOE initiated the environmental review process by publishing a Notice of Intent in the Federal Register (“Notice of Intent to Prepare an Environmental Impact Statement and Notice of Wetlands Involvement for the Abengoa Biorefinery Project Near Hugoton, KS,” 73 FR 50001). However, based on changes in the scope of the project proposed by ABBK and also ABBK's decision to solicit loan guarantees from DOE's Loan Guarantee Program pursuant to Title XVII of EPAct 2005 and from USDA-RD Biorefinery Assistance Program, DOE published an Amended Notice of Intent in the Federal Register on April 29, 2009 (“Amended Notice of Intent To Modify the Scope of the Environmental Impact Statement for the Abengoa Biorefinery Project Near Hugoton, KS”, 74 FR 19543). Public comments were accepted on the original scope of the EIS from August 25 through October 9, 2008, and then on the revised scope from April 29 through May 29, 2009. An initial public scoping meeting was held in Hugoton, KS on September 10, 2008, and an additional public scoping meeting was held on May 19, 2009 to address the revised scope. DOE received both oral and written scoping comments. DOE identified 16 scoping comments and grouped them into three categories reflecting the nature of the individual comments: (1) Support for the project, (2) requests for specific information or analyses and (3) statements of no negative environmental impacts. All requests for specific information are addressed in the Draft EIS.

Proposed Action: DOE's Proposed Action analyzed in the Draft EIS is to provide Federal funding to support the design, construction, and start up of the integrated biorefinery proposed by ABBK. DOE would negotiate an agreement with ABBK to provide approximately $85 million (2008 dollars) for the final design, construction and start up of the biorefinery. The estimated total project cost is approximately $300 million (2008 dollars). At this time, DOE is not considering issuing a loan guarantee for the proposed project. The Abengoa Biorefinery facility would use lignocellulosic biomass (biomass) as feedstock to produce biofuels. Biomass such as corn stover, wheat straw, milo stubble, switchgrass, and other available materials would be harvested as feedstock and fermented to produce ethanol. The biorefinery would also produce electricity.

Under the Proposed Action, the Abengoa Biorefinery would process approximately 2,300 dry metric tons per day of feedstock, which would be obtained from producers within 50 miles of the Abengoa Biorefinery Project site. The biorefinery would produce up to 18 million gallons of denatured ethanol per year using a one-step feedstock hydrolysis and fermentation process. The biorefinery also would produce 92 megawatts of electricity, and 117,000 dry short tons per year of lignin-rich stillage cake. Electricity would be produced via a high-pressure, steam-condensing turbine generator. Seventy megawatts of electricity would be sold commercially. The lignin-rich stillage cake could be sold to a lignin producer, processed and lignin-poor stillage cake would be returned to the biorefinery and burned in the solid fuel boiler.

Action Alternative: For the Action Alternative, DOE would provide Federal funding for an integrated biorefinery that would produce approximately 12 million gallons per year of denatured ethanol, 45,000 dry short tons per year of lignin-rich stillage cake, and 20 megawatts of electricity for use at the facility (none sold commercially).

Under the Action Alternative, the integrated biorefinery would use a two-stage process to pretreat, hydrolyze and ferment sugars for ethanol production, and would produce syngas using a gasification system. A syngas boiler as well as the biomass boilers would produce steam. Steam would be used for ethanol production processes and electricity production. The biomass boilers and the turbines would be used to generate electricity solely to operate the plant (no electricity would be sold commercially) and would be smaller than those for the Proposed Action.

No Action Alternative: Under the No Action Alternative, DOE would not provide Federal funding to ABBK to support the final design, construction, and start-up of the Abengoa Biorefinery Project. Under the No Action Alternative, the Draft EIS presumes that ABBK would not build a biorefinery. The Department recognizes, however, that ABBK could pursue alternative sources of capital for development of the biorefinery.

Preferred Alternative: The Proposed Action is DOE's Preferred Alternative.

Following the end of the public comment period, November 9, 2009, DOE will consider and respond to the comments received, and issue the Final Abengoa Biorefinery EIS. DOE will issue a Record of Decision no sooner than 30 days after the U.S. Environmental Protection Agency issues a Notice of Availability of the Final EIS in the Federal Register.

Issued in Golden, CO on September 15, 2009.
Steve Blazek,
NEPA Compliance Officer, Golden Field Office.

[FR Doc. E9-22920 Filed 9-22-09; 8:45 am]

BILLING CODE 6450-01-P